DEPARTMENT OF AGRICULTURE

Forest Service

Land Management Plan Direction for Old-Growth Forest Conditions Across the National Forest System

AGENCY: Forest Service, Department of Agriculture.

ACTION: Notice of intent to prepare an environmental impact statement.

SUMMARY: The United States Department of Agriculture (Department) is proposing to amend all land management plans for units of the National Forest System (128 plans in total) to include consistent direction to conserve and steward existing and recruit future old-growth forest conditions and to monitor their condition across planning areas of the National Forest System. The intent is to foster the long-term resilience of old-growth forest conditions and their contributions to ecological integrity across the National Forest System. This notice initiates a scoping period on a preliminary proposed action and advises the public that the Department is preparing an environmental impact statement to evaluate the effects of amending the 128 land management plans.

DATES: Comments are most valuable to the Department if received by February 2, 2024. The proposed action and draft environmental impact statement are expected in May 2024 and will be accompanied by a 90-day comment period, and the final environmental impact statement is expected in January 2025.

ADDRESSES: Comments may be submitted using the following methods: Online (preferred): Individuals and entities are encouraged to submit comments via webform at https://cara.fs2c.usda.gov/Public//CommentInput?Project=65356.

Mail: Hardcopy letters must be submitted to the Director, Ecosystem Management Coordination, 201 14th Street SW, Mailstop 1108, Washington, DC 20250-1124.

FOR FURTHER INFORMATION CONTACT: Jennifer McRae, Planning Team Leader, at 202-791-8488. Individuals who use telecommunication devices for the deaf and hard of hearing (TDD) may call the Federal Relay Service at 800-877-8339.

SUPPLEMENTARY INFORMATION: The Forest Service, an agency of the U.S. Department of Agriculture, is responsible for managing the land and resources of the National Forest System to provide for multiple-use and sustained-yield of products and services. The Forest and Rangeland Renewable Resources Planning Act of 1974 (88 Stat. 470 et seq.), as amended by the National Forest Management Act of 1976 (90 Stat. 2949 et seq.; 16 U.S.C. 1601-1614), requires land management plans for all units of the National Forest System. Regulations to implement the National Forest Management Act are set forth at 36 CFR 219.

Background

On April 22, 2022, President Biden issued Executive Order 14072 Strengthening the Nation's Forests, Communities, and Local Economies. Section 2 of the Executive Order (E.O.) recognizes the distinctive role that Federal forest lands play in sustaining ecological, social, and economic benefits throughout the nation and calls particular attention to the importance of mature and old-growth forests on Federal lands for their role in contributing to nature-based climate solutions by storing large amounts of carbon and increasing biodiversity, mitigating wildfire risks, enhancing climate resilience, enabling subsistence and cultural uses, providing outdoor recreational opportunities, and promoting sustainable local economic development.

Section 2(b) ¹ of the E.O. required the Department to inventory mature and old-growth forest conditions on National Forest System lands, which the Forest Service completed an initial draft of in April 2023 (Mature and Old-Growth Forests: Definition, Identification, and Initial Inventory on Lands Managed by the Forest Service and Bureau of Land Management, https://www.fs.usda.gov/sites/default/files/mature-and-old-growth-forests-tech.pdf). The initial inventory was conducted by applying working definitions of old-growth and mature forest conditions for over 200 regional vegetation types to Forest Inventory and Analysis field plot data. Definitions and inventories have been established for forests exhibiting old-growth conditions, but mature forest conditions had not previously been ecologically defined in a consistent manner at a national scale. This initial inventory resulted in the Forest Service identifying an estimated 24.7 million acres of old-growth forest conditions and 68.1 million acres of mature forest conditions representing 17 and 47 percent, respectively, of the 144.3 million acres of forested National Forest System lands.

¹ Executive Order 14072 also applies to the Bureau of Land Management but this notice of intent applies to National Forest System lands only.

Section 2(c)(ii) of the E.O. directed the Department, following completion of the initial inventory, to analyze threats to inventoried mature and old-growth forests on National Forest System lands, including threats from wildfires and climate change. Like the inventory, the initial threat analysis was national in scale and presents an initial compilation and summation of threats associated with wildfire, fire exclusion, insects and disease, extreme weather, climate and temperature, drought, tree cutting, roads, land use allocation, and wildland urban interface. In the analysis, the term “threat” indicated a change in forest structure resulting in a reclassification of the forest condition but not necessarily a loss of ecological function and integrity.

Initial analysis from that ongoing effort indicates several key findings that informed this proposed action. The initial analysis found that mortality from wildfires is currently the leading threat to mature and old-growth forest conditions, followed by insects and disease. The analysis found that tree cutting is now a relatively minor threat compared to climate amplified disturbances such as wildfire, insects and disease. However, past management practices, including timber harvest and fire suppression, contributed to current vulnerabilities in the distribution, abundance, and resilience of old-growth forest characteristics.

The amount and distribution of mature forests across the National Forest System suggest that these lands have the inherent capability to sustain old-growth forest conditions into the future. This proposed amendment is intended to create a consistent approach to manage for old-growth forest conditions with sufficient distribution, abundance, and ecological integrity (composition, structure, function, connectivity) to be persistent over the long term, in the context of climate amplified stressors. The amendment establishes a set of national plan components and direction for geographically informed adaptive implementation strategies that promote the long-term persistence, distribution, and recruitment of old-growth forest conditions across the National Forest System.

The proposed action recognizes the role of old-growth forest conditions in contributing to ecological integrity. It also recognizes that there are significant ecosystem and geographic differences that would require the development of geographically informed adaptive management strategies, in collaboration with the public and through consultation with Tribes and Alaska Native Corporations. The proposed amendment includes direction to integrate Indigenous Knowledge and respect for the ethic of reciprocity and responsibility to future generations and directs land managers to advance co-stewardship, recognizing the importance of general trust responsibilities, treaty rights, and cultural, religious, and other tribal interests and practices. The proposed amendment provides a framework for strategic conservation, and proactive stewardship and management, to mitigate risks across a range of forest conditions to both maintain and intentionally develop old-growth forest conditions, where feasible given climate impacts, and within the context of the multiple-use mandate that guides management of the National Forest System.

Given the key threat that rapidly changing wildfire disturbances pose to national forest ecosystems and watersheds and the old-growth forests therein, this proposed action is intended to complement the Department's continued focus on, funding, and implementation of the Forest Service's Wildfire Crisis Strategy. Providing consistent national direction that recognizes the beneficial role that functional old-growth forest conditions play in enhancing forest resiliency to wildfire further strengthens efforts to abate the wildfire crisis. The proposed action also recognizes the importance of strategic conservation and proactive stewardship for wildfire resilience efforts, including science-based vegetation treatments and restoring prescribed fire in fire-adapted ecosystems, for the long-term retention and future recruitment of old-growth forest conditions.

Focusing on the intentional management, conservation, and furtherance of old-growth across the National Forest System via a national amendment to land management plans is also warranted given the longstanding commitment demonstrated by the Forest Service to manage old-growth forest conditions for multiple values including ecosystem diversity, habitat, recreation, aesthetics, and water quality. For several decades, it has been the agency's position that decisions concerning the management of old-growth forest conditions will be made in the development and implementation of land management plans, including plan direction that provides for a succession of young and mature forests into old-growth forests. Current data has identified approximately 2,700 land management plan components, across nearly all 128 individual plans, which provide direction on the management, conservation, or monitoring of old-growth forest conditions across the National Forest System. The proposed amendment builds on those existing plan components and promotes consistency in old-growth management, conservation, and recruitment efforts.

This proposed action was informed by public feedback received on the Climate Resilience Advance Notice of Proposed Rulemaking (ANPR) the Forest Service initiated in April 2023 (88 FR 24497). The ANPR gave the public an opportunity to provide input on how the Forest Service should respond to the changing climate through forest management activities and possibly future policies. It included the following two questions:

1. How might the Forest Service use the mature and old-growth forest inventory together with analyzing threats and risks to determine and prioritize when, where, and how different types of management will best enable retention and expansion of mature and old-growth forests over time?

2. Given our current understanding of the threats to the amount and distribution of mature and old-growth forest conditions, what policy, management, or practices would enhance ecosystem resilience and distribution of these conditions under a changing climate?

The Forest Service received 92,000 comments in response to the ANPR, representing nearly 500,000 respondents. Many responses included feedback on the appropriate conservation and management of mature and old-growth forest conditions, reflecting a diversity of perspectives. In developing this proposed action, the Department identified some potential areas of agreement, including:

1. Land management plans, the forest planning process, and National Forest Management Act implementing regulations (36 CFR 219 “planning regulations”) provide useful and durable mechanisms and frameworks for the furtherance of mature and old-growth conservation and management objectives.

2. Old-growth forest conditions have distinct, unique, and special ecological, cultural, and social values and contribute to ecological integrity. There is value in the long-term presence and resilience of old-growth forest conditions on the National Forest System.

3. Old-growth forest conditions exist in a dynamic landscape, and changes in the distribution and abundance of old-growth forest conditions related to disturbance and climate amplified stressors, including mortality from persistent drought, rapidly changing wildfire disturbance regimes, insects and disease, and encroachment pressures from urban development are likely to occur.

4. There is concern over climate amplified disturbance impacts that pose a threat to the persistence of old-growth forest conditions on the National Forest System lands, and an understanding that current management practices may benefit from consistent direction to reduce vulnerabilities and increase resilience to stressors.

5. There are differences in threats and conditions in different regions and ecosystems across the National Forest System that will require additional consultation with Tribes and Alaska Native Corporations and place-based collaboration to develop geographically informed adaptive management strategies. For example, in July 2023, the Secretary of Agriculture appointed a Federal Advisory Committee to guide related work in the Pacific Northwest to develop a climate informed amendment for the national forests of the Northwest Forest Plan.

6. Management must be science-based, including Indigenous Knowledge as a source of best-available scientific information.

7. Management direction should enable co-stewardship and recognize the importance of trust responsibilities, treaty rights, and cultural, religious, and other tribal interests and eco-cultural practices associated with old-growth forest conditions.

8. Consistent and effective monitoring of current and future old-growth forest conditions over time would better inform adaptive management.

9. Good examples of proactive stewardship and management direction and monitoring can be drawn from recent tribal co-stewardship agreements, Collaborative Forest Landscape Restoration Partnership projects, land management plans, and implementation of other programs.

10. Nationally consistent direction for conserving, stewarding and recruiting old-growth forest conditions is connected to and should complement related Forest Service policy and direction, including the Wildfire Crisis Strategy and Climate Adaptation Plan.

The Department believes that reaffirming, at a national scale, the commitment to maintaining and developing old-growth forests conditions across the National Forest System is prudent and warranted, and best advanced at this time via amendment of land management plans. As noted, abundances of mature forest condition across National Forest System lands suggest an inherent capability of these ecosystems to sustain old-growth forest conditions into the future. Given climate amplified stressors, management actions must be guided by science, including Indigenous Knowledge, intentionality, and commitment to evaluate the effectiveness of strategies designed to further desired old-growth forest conditions.

Purpose of the Amendment

The purpose of this amendment is to establish consistent plan direction to foster ecologically appropriate management across the National Forest System by maintaining and developing old-growth forest conditions while improving and expanding their abundance and distribution and protecting them from the increasing threats posed by climate change, wildfire, insects and disease, encroachment pressures from urban development, and other potential stressors, within the context of the National Forest System's multiple-use mandate.

With consideration of the old-growth definition and initial inventory information, the initial threats analysis, comments the Forest Service received on the Climate Resilience ANPR, and an analysis of existing land management plan direction for old-growth management and conservation, the Department is proposing to amend all land management plans to establish consistent direction for old-growth forest conditions across the National Forest System. The proposed amendment establishes national intent to maintain and improve amounts and distributions of old-growth forest conditions within national forest ecosystems and watersheds so that old-growth forest conditions are resilient and adaptable to stressors and likely future environments.

Standards are proposed to prevent degradation of old-growth conditions and to enable conservation and proactive stewardship within old-growth forest conditions to foster or increase resilience to disturbances and stressors that may have adverse impacts. Proactive stewardship includes ecologically appropriate management and recognition of when natural succession processes can support achievement of desired conditions. A guideline is proposed to encourage proactive stewardship to increase amounts and improve distributions and climate resilience of future old-growth forest conditions.

The proposed action also includes a management approach to direct the development of a place-based strategy. The intent is for a unit or units to create a new Adaptive Strategy for Old-Growth Forest Conservation based on geographically relevant data or information, or adopt an already existing strategy that meets this intent, and include it as an appendix to either the broader scale monitoring strategy or in the biennial monitoring report. The Adaptive Strategy for Old-Growth Forest Conservation would not be a decision document representing final agency action—as a management approach, the strategy is “other plan content” that can be established or modified through an administrative change to enable adaptation, see 36 CFR 219.7(f)(2).

This proposal is not intended to replace existing direction in plans but rather to add language that provides consistency across all plans. If existing plan direction provides more restrictive constraints on actions that may affect existing or potential old-growth forest conditions, those more restrictive constraints would govern. Additional purposes of this amendment are to:

• Establish a clear role for Indigenous Knowledge and tribal leadership in the proactive stewardship and furtherance of old-growth forest conditions on the National Forest System lands.

• Establish a National Old-Growth Monitoring Network to track trends and distribution patterns in old-growth for inventory, evaluation, assessment, and adaptive management purposes.

• Facilitate the development of geographically informed adaptive strategies for old-growth forest conservation to support the effective implementation of this amendment and enable co-stewardship with Tribes and Alaska Native Corporations and collaboration with States, local governments, industry partners, and public stakeholders.

Need for Change

In preparing an amendment, the responsible official shall base an amendment on a preliminary identification of the need to change the plan (36 CFR 219.13(b)(1)). The need for change is to create a consistent set of national plan components and direction for the development of geographically informed adaptive implementation strategies for the long-term persistence, distribution, and recruitment of old-growth forest conditions across the National Forest System; to provide for consistent and effective monitoring of old-growth forest characteristics to inform adaptive management; and to more clearly recognize and incorporate Indigenous Knowledge and tribal rights and interests in managing for old-growth forest conditions.

The proposed amendment focuses on interrelated topic areas, including:

• Improving conservation of old-growth forest conditions

• Improving durability, resilience, and resistance to fire, insects and disease within old-growth forest conditions across the National Forest System

• Strengthening the capacity of existing and future old-growth forest conditions to adapt to the ongoing effects of climate change

• Addressing concerns about future durability, distribution, and redundancy of old-growth forest conditions

• Incorporating Indigenous Knowledge into planning, project design, and implementation to achieve forest management goals and help meet general trust responsibilities

• Establishing a National Old-Growth Monitoring Network

• Providing direction for geographically informed adaptive management strategies

Preliminary Alternatives

This notice of intent initiates the official scoping process, which guides the development of the environmental impact statement. Written comments received in response to this notice will be analyzed to further develop the proposed action and to identify potential significant issues for developing alternatives to the proposed action. A no-action alternative, which represents no change to existing management direction, will be analyzed in addition to the proposed action and will serve as the baseline for the comparison among action alternatives. Consistent with 36 CFR 219.16(a)(2), there will be a 90-day comment period for additional input when the proposed action and draft environmental impact statement are released.

Lead and Cooperating Agencies

The Forest Service will prepare the environmental analysis in compliance with the National Environmental Policy Act and operate as the lead agency for this amendment. State agencies and Federally recognized Tribes and Alaska Native Corporations are invited to indicate interest in participating as a cooperating agency.

Responsible Official

The responsible official for this amendment is the Secretary of Agriculture.

Nature of the Decision To Be Made

The Secretary will decide whether and how to amend all National Forest System land management plans.

Substantive Provisions

When proposing a land management plan amendment, the planning regulations (36 CFR 219), as amended, require the responsible official to identify in this notice what part of the substantive requirements (219.8 through 219.11) will govern this amendment process. These are the requirements likely to be directly related to the amendment based on the purpose of the amendment or the effects of the amendment (36 CFR 219.13(b)(5)). The Secretary's initial determination, subject to change, is that the following sections of the specific substantive requirements within 219.8 through 219.11 are directly related to the plan direction being added by the amendment and therefore will apply within the scope and scale of the amendment.

36 CFR 219.8(a)(1)—Terrestrial and aquatic ecosystem integrity (including associated analytical considerations in 219.8(a)(1) (i through vi).

36 CFR 219.8(a)(1 and 2)—Watershed integrity, water quality, and soils.

36 CFR 219.8(a)(3)—Riparian areas.

36 CFR 219.8(b)—Social and economic sustainability, including the analytical requirements of 219.8(b)(1 through 6).

39 CFR 219.9(a)(2) Ecosystem diversity.

36 CFR 219.9(b) Ecological conditions for species (including threatened, endangered, proposed or candidate species and potential species-of-conservation-concern).

36 CFR 219.10(a) Ecosystem services and multiple use (including analytical requirements 1 through 10).

36 CFR 219.10(b)(1)(i) Recreation settings, opportunities, access, and scenic character.

36 CFR 219.10(b)(1)(ii) Cultural and historic resources.

36 CFR 219.10(b)(1)(iii) Areas of tribal importance.

Scoping Process—Submitting Comments

This notice of intent begins the scoping process, 36 CFR 220.4(e). Comments submitted in response to this notice will be considered and guide the development of the draft environmental impact statement. The Department is requesting comments on the proposed action, including any modifications or additional language, potential alternatives, and identification of any relevant information, studies, or analyses concerning impacts that may affect the quality of the environment. The Department does not anticipate that the proposed action will require any permits or other authorizations.

It is important that reviewers provide their comments at such times and in such manner that they are useful in the preparation of the environmental impact statement. Therefore, comments should be provided prior to the close of the comment period and should clearly articulate the reviewer's concerns and contentions.

Specific written comments should be within the scope of the proposed action, have a direct relationship to the proposed action, and include supporting reasons for the Secretary to consider. Comments received in response to this solicitation, including names (and addresses, if included) of those who comment, will be part of the public record for this proposed action.

Objection Process Information

The proposed action is not subject to the 36 CFR 219 subpart B objection process, in accordance with 36 CFR 219.51(b).

Preliminary Proposed Action

The following is a description of the Department's proposed action to address the interrelated concerns identified in the Need for Change section above. The proposed action consists of plan components and other plan content that would be added to all land management plans. Existing plan components in all plans would remain in effect, and if existing plan components are more restrictive, the more restrictive direction would govern.

The Department seeks to amend the following land management plans: Region 1—Beaverhead-Deerlodge, Bitterroot, Clearwater, Custer-Gallatin, Dakota Prairie Grassland, Flathead, Helena-Lewis and Clark, Idaho Panhandle, Kootenai, Lolo, Nez Perce; Region 2—Arapaho-Roosevelt-Pawnee, Bighorn, Black Hills, Grand Mesa-Uncompahgre-Gunnison, Medicine Bow, Nebraska, Pike-San Isabel-Cimarron-Comanche, Rio Grande, Routt, San Juan, Shoshone, Thunder Basin, White River; Region 3—Apache-Sitgreaves, Carson, Cibola Mountains, Cibola Grasslands, Coconino, Coronado, Gila, Kaibab, Lincoln, Prescott, Santa Fe, Tonto; Region 4—Ashley, Boise, Bridger-Teton, Caribou, Challis, Curlew Grasslands, Dixie, Fishlake, Humboldt, Manti-La Sal, Payette, Salmon, Sawtooth, Targhee, Toiyabe, Uinta, Wasatch-Cache; Region 5—Angeles, Cleveland, Eldorado, Inyo, Klamath, Lake Tahoe Basin, Lassen, Los Padres, Mendocino, Modoc, Plumas, San Bernardino, Sequoia, Shasta-Trinity, Sierra, Six Rivers, Stanislaus, Tahoe; Region 6—Colville, Crooked River National Grassland, Deschutes, Fremont, Gifford Pinchot, Malheur, Mt. Baker-Snoqualmie, Mt. Hood, Ochoco, Okanogan, Olympic, Rogue River, Siskiyou, Siuslaw, Umatilla, Umpqua, Wallowa-Whitman, Wenatchee, Willamette, Winema; Region 8—Chattahoochee-Oconee, Cherokee, Croatan, Daniel Boone, El Yunque, Francis Marion, George Washington, Jefferson, Kisatchie, Land Between the Lakes, National Forests in Alabama, National Forests in Florida, National Forests in Mississippi, Nantahala-Pisgah, National Forests in Texas, Ouachita, Ozark and St. Francis, Sumter, Uwharrie; Region 9—Allegheny, Chequamegon-Nicolet, Chippewa, Finger Lakes, Green Mountain, Hiawatha, Hoosier, Huron-Manistee, Mark Twain, Midewin Tallgrass Prairie, Monongahela, Ottawa, Shawnee, Superior, Wayne, White Mountain; Region 10—Chugach, Tongass.

The following would be added to each land management plan: a statement of distinctive roles and contributions, one goal, one management approach, four desired conditions, one objective, four standards, one guideline, and plan monitoring requirements. For general descriptions of plan components and other plan content, see 36 CFR 219.7(e) and (f).

Proposed Plan Components and Other Plan Content To Add to Each Land Management Plan

Statement of Distinctive Roles and Contributions—

The National Forest System plays a distinctive and key role in providing the nation with benefits related to national forests and grasslands within the broader landscape, including old-growth forest conditions. Old-growth forests are dynamic systems distinguished by old trees and related structural attributes. Old growth typically differs from other stages of stand development in a variety of characteristics, including the presence of old trees, variability in canopy structure, patchiness, and development pathways depending on disturbance regimes and resulting patterns. The structure and composition of old-growth forests is highly place-based and can range from old, multi-layered temperate coniferous forests with high amounts of dead wood in the form of standing snags and coarse wood to old, single-storied pine forests or oak woodlands with open canopy structure and fire-maintained herb and litter dominated understories.

Old-growth forest conditions support ecological integrity and contribute to distinctive ecosystem services—such as long-term storage of carbon, increased biodiversity, improved watershed health, and social, cultural, and economic values. Old-growth forests have place-based meanings tied to cultural identity and heritage; local economies and ways of life; traditional and subsistence uses; aesthetic, spiritual, and recreational experiences; and Tribal and Indigenous histories, cultures, and practices. For millennia, Tribal and Indigenous practices have maintained resilient forest structure and composition of forests that harbor high structural and compositional diversity, with particular emphasis on understory plants and fire-dependent wildlife habitat.

Goal—

1. Interpretation and implementation is grounded in recognition and respect of tribal sovereignty, treaties, Indigenous Knowledge and the ethic of reciprocity and responsibility to future generations. Implementation should enable co-stewardship, including for cultural burning, prescribed fire, and other activities, and should occur in consultation with Tribes and Alaska Native Corporations to fulfill treaty obligations and general trust responsibilities.

Management Approach—

1. Adaptive Strategy for Old-Growth Forest Conservation:

(a) Within two years, in consultation with Tribes and Alaska Native Corporations and in collaboration with States, local governments, industry partners, and public stakeholders, create or adopt an Adaptive Strategy for Old-Growth Forest Conservation based on geographically relevant data or information to:

• Effectively braid place-based Indigenous Knowledge and Western science to inform and prioritize the conservation and recruitment of old-growth forest conditions through proactive stewardship.

• Identify criteria used to indicate conditions where plan components will apply.

• Prioritize areas for the retention and promotion of old-growth forest conditions, based on threats, stressors, and opportunities relevant to the plan area.

• Establish target milestones for management specific to the plan area, to support progress toward the desired conditions of this amendment.

• Develop additional proactive climate-informed stewardship, conservation, and management approaches as needed to effectively achieve the desired conditions, standards, and guidelines in the amendment.

• Identify a program of work and partnerships that can support effective delivery of the plan monitoring requirements to inform adaptive management.

• Provide geographically relevant information about threats, stressors, and management opportunities relevant to the ecosystem of the plan area to facilitate effective implementation.

(b) One or more units may create a joint Adaptive Strategy for Old-Growth Forest Conservation. An already existing strategy or other document may also be used if it meets this intent.

(c) Include the Adaptive Strategy for Old-Growth Forest Conservation as an appendix to either the broader scale monitoring strategy or the biennial monitoring report, see 36 CFR 219.12. Units should use this strategy to inform priorities. The strategy may be periodically updated (36 CFR 219.13(c)) to reflect new information and monitoring results.

Desired Conditions—

1. The amount and distribution of old-growth forest conditions are maintained and improved relative to the existing condition over time, recognizing that old-growth forest conditions are dynamic in nature and shift on the landscape over time as a result of succession and disturbance.

2. Proactive stewardship, including for retention and recruitment, along with natural succession, foster an increasing trend in the amount, representativeness, redundancy, and connectivity of old-growth forest conditions such that future conditions are resilient and adaptable to stressors and likely future environments.

3. Carbon stored in old-growth conditions contributes to the long-term carbon storage, stability, and resiliency of forest carbon across the National Forest System.

4. The long-term abundance, distribution, and resiliency of old-growth conditions contribute to the overall ecological integrity of ecosystems and watersheds.

Objective—

1. Within ten years, at the unit level, at least one landscape prioritized within an Adaptive Strategy for Old-Growth Forest Conservation will exhibit measurable improvements in old growth desired conditions as a result of retention, recruitment, and proactive stewardship activities and natural succession.

Standards for Management Actions Within Old-Growth Forest Conditions—

1. Vegetation management activities must not degrade or impair the composition, structure, or ecological processes in a manner that prevents the long-term persistence of old-growth forest conditions within the plan area.

2. (a) Vegetation management in old-growth forest conditions must be for the purpose of proactive stewardship, to promote the composition, structure, pattern, or ecological processes necessary for the old-growth forest conditions to be resilient and adaptable to stressors and likely future environments. Proactive stewardship activities shall promote one or more of the following:

i. amount, density and distribution of old trees, downed logs, and standing snags;

ii. vertical and horizontal distribution of old-growth structures, including canopy structure;

iii. patch size characteristics, percentage or proportion of forest interior, and connectivity;

iv. types, frequencies, severities, patch sizes, extent, and spatial patterns of disturbances;

v. return of appropriate fire disturbance regimes and conditions;

vi. successional pathways and stand development;

vii. connectivity and the ability of native species to move through the area and cross into adjacent areas;

viii. ecological conditions for at-risk species associated with old-growth forest conditions;

ix. the presence of key understory species or culturally significant species or values;

x. species diversity, and presence and abundance of rare and unique habitat types associated with old-growth forest conditions; or

xi. other key characteristics of ecological integrity.

b) Exceptions to this standard may be allowed if the responsible official determines that actions are necessary:

i. to reduce fuel hazards on National Forest System land within the wildland-urban interface to protect a community or infrastructure from wildfire;

ii. to protect public health and safety;

iii. to comply with other statutes or regulations;

iv. for culturally significant uses; or

v. in cases where it is determined that the direction in this amendment is not relevant or beneficial to a particular forest ecosystem type.

In granting an exception, the responsible official must include the rationale in a decision document.

3. Vegetation management within old-growth forest conditions may not be for the primary purpose of growing, tending, harvesting, or regeneration of trees for economic reasons. Ecologically appropriate harvest is permitted in accordance with standards 1 and 2.

4. Exceptions to standards 2 and 3 may be granted by the Regional Forester in Alaska if necessary to allow for implementation of the Southeast Alaska Sustainability Strategy and the rationale must be included in a decision document.

Guideline—

1. This guideline is intended to increase amounts and improve distributions and climate resilience of future old-growth forest conditions. It applies to areas that do not currently meet old-growth definitional conditions but that have been identified in the Adaptive Strategy for Old-Growth Forest Conservation as a priority for the future contribution of the development of those conditions over time.

For the purposes of fostering an increasing trend in the amount, representativeness, redundancy, and connectivity of old-growth forest conditions such that future conditions will be resilient and adaptable to stressors and likely future environments, landscape-level proactive stewardship activities should, within the scope of meeting other desired conditions, and characteristic of the ecosystem, be developed for the following priorities and purposes:

(a) To provide landscape-level redundancy and representation of old-growth conditions such that loss due to natural disturbance events does not result in a loss or isolation of the old-growth conditions at the landscape scale.

(b) To retain and promote the development of resilient old-growth conditions adjacent to existing old-growth forest conditions, including for the purposes of reducing fire hazard, altering potential fire spread or fire severity, or reducing potential insect or disease outbreak that may spread to adjacent old-growth forest.

(c) To enhance landscape and patch connectivity in forest conditions between old-growth condition patches where connectivity is poor or old-growth patches are isolated.

(d) To retain and promote the development of old-growth conditions where current conditions are likely to provide old-growth conditions in the shortest timeframe possible.

(e) To retain and promote the development of old-growth conditions in watersheds, firesheds, or other relevant landscape units where existing amounts and distributions of old-growth conditions lack resilience and adaptability to stressors and likely future environments.

(f) To retain and promote the development of old-growth conditions in areas of likely climate refugia that are projected to have the inherent capability to sustain old-growth conditions.

(g) To promote climate adapted species assemblages in areas where changing climatic conditions are likely to alter current conditions and change species assemblages over time.

Plan Monitoring—

The Chief of the Forest Service is responsible for establishing a National Old-Growth Monitoring Network for the purposes of informing the continued implementation and evaluating the effectiveness of this amendment, based on the initial inventory and remote sensing data and other sources of finer scale information. The National Old-Growth Monitoring Network will adapt to emerging inventory methods, regularly update the national inventory of mature and old-growth conditions, develop analytical processes to interpret trend information, and convey findings to the field as they relate to implementation of the amendment. Regions and units will collaborate with the Chief's Office on the development of approaches to identify old-growth forest conditions and for effectively verifying estimated abundances and distributions.

For plan-level monitoring:

1. Within two years, identify initial criteria indicating where these plan components will apply and include such identification in the biennial monitoring report or the broader scale monitoring strategy to be updated as conditions change.

2. Within biennial monitoring evaluation reports, provide regular updates on actions taken pursuant to this amendment and provide updates on measurable changes in unit-level old-growth forest conditions when new information is available.

3. Add the following questions and indicators to plan-level monitoring programs:

a. Question: Are retention, development, and proactive stewardship activities implemented under the Adaptive Old-Growth Conservation and Management Strategy fostering an increasing trend in the amount, representativeness, redundancy, and connectivity of old-growth forest conditions on the unit?

i. Indicator: Changes in trends in amounts and distributions of old-growth forest conditions on the unit.

b. Question: Are vegetation management activities within old-growth forest promoting the desired composition, structure, pattern, and ecological conditions?

i. Indicator: Changes in composition, structure, and patterns related to desired ecological conditions in areas affected by vegetation management.

This proposed action and other related documents are available for comment on the project website at https://www.fs.usda.gov/project/?project=65356. Additional information can be found on the Forest Service website for mature and old-growth forests at https://www.fs.usda.gov/managing-land/old-growth-forests.

Thomas J. Vilsack,
Secretary of Agriculture.

[FR Doc. 2023-27875 Filed 12-19-23; 8:45 am]

BILLING CODE 3411-15-P